DEPARTMENT OF ENERGY

Federal Energy Regulatory Commission

Combined Notice of Filings #1

Take notice that the Commission received the following electric rate filings:

Docket Numbers: ER15-1883-010; ER10-1841-020; ER10-1845-020; ER10-1846-016; ER10-1849-022; ER10-1851-013; ER10-1852-045; ER10-1857-015; ER10-1890-016; ER10-1899-015; ER10-2005-020; ER11-2160-016; ER11-26-020; ER12-2227-022; ER12-569-023; ER13-1991-015; ER13-1992-015; ER13-712-024; ER13-752-014; ER15-1418-010; ER15-1883-010; ER15-1925-016; ER15-2582-008; ER15-2676-015; ER16-1672-013; ER16-2190-012; ER16-2191-012; ER16-2453-013; ER16-632-008; ER16-91-010; ER17-2152-009; ER18-1534-007; ER18-1863-007; ER18-1978-006; ER18-2118-008; ER18-882-008; ER19-1003-007; ER19-1393-007; ER19-1394-007; ER19-2269-003; ER19-2373-003; ER19-2437-003; ER19-2461-003; ER19-2901-004; ER19-987-007; ER20-1769-001; ER20-1980-002; ER20-1987-001; ER20-2027-001; ER20-2049-001; ER20-2179-001; ER20-819-002; ER20-820-002.

Applicants: Adelanto Solar, LLC, Adelanto Solar II, LLC, Armadillo Flats Wind Project, LLC, Ashtabula Wind I, LLC, Ashtabula Wind II, LLC, Ashtabula Wind III, LLC, Baldwin Wind Energy, LLC, Blackwell Wind, LLC, Blythe Solar 110, LLC, Blythe Solar II, LLC, Blythe Solar III, LLC, Blythe Solar IV, LLC, Breckinridge Wind Project, LLC, Brady Interconnection, LLC, Brady Wind, LLC, Brady Wind II, LLC, Bronco Plains Wind, LLC, Butler Ridge Wind Energy Center, LLC, Carousel Wind Farm, LLC, Casa Mesa Wind, LLC, Cedar Bluff Wind, LLC, Cedar Springs Wind, LLC, Cedar Springs Wind III, LLC, Cedar Springs Transmission, LLC, Cerro Gordo Wind, LLC, Chaves County Solar, LLC, Chicot Solar, LLC, Cimarron Wind Energy, LLC, Coolidge Solar I, LLC, Cottonwood Wind Project, LLC, Crowned Ridge Wind, LLC, Crystal Lake Wind Energy I, LLC, Crystal Lake Wind Energy II, LLC, Crystal Lake Wind III, LLC, Dougherty County Solar, LLC, Day County Wind, LLC, Desert Sunlight 250, LLC, Desert Sunlight 300, LLC, East Hampton Energy Storage Center, LLC, Elk City Renewables II, LLC, Elk City Wind, LLC, Emmons-Logan Wind, LLC, Endeavor Wind I, LLC, Endeavor Wind II, LLC, Energy Storage Holdings, LLC, Ensign Wind, LLC, ESI Vansycle Partners, L.P., Florida Power & Light Company, FPL Energy Cape, LLC, FPL Energy Green Power Wind, LLC, FPL Energy Illinois Wind, LLC, FPL Energy Montezuma Wind, LLC.

Description: Notice of Change in Status of the NextEra MBR Sellers (Part 1) under ER15-1883, et al.

Filed Date: 12/7/20.

Accession Number: 20201207-5235.

Comments Due: 5 p.m. ET 12/28/20.

Docket Numbers: ER19-2259-002.

Applicants: Turquoise Nevada LLC.

Description: Notice of Non-Material Change in Status of Turquoise Nevada LLC.

Filed Date: 12/7/20.

Accession Number: 20201207-5222.

Comments Due: 5 p.m. ET 12/28/20.

Docket Numbers: ER21-513-001.

Applicants: Pacific Gas and Electric Company.

Description: Tariff Amendment: Amendment to Western November 2020 Biannual (WDT SA 17) to be effective 2/1/2021.

Filed Date: 12/9/20.

Accession Number: 20201209-5001.

Comments Due: 5 p.m. ET 12/30/20.

Docket Numbers: ER21-514-001.

Applicants: Pacific Gas and Electric Company.

Description: Tariff Amendment: Amendment to Western November 2020 Biannual (TO SA 59) to be effective 2/1/2021.

Filed Date: 12/9/20.

Accession Number: 20201209-5000.

Comments Due: 5 p.m. ET 12/30/20.

Docket Numbers: ER21-607-000.

Applicants: American Electric Power Service Corporation, Ohio Power Company, AEP Ohio Transmission Company, Inc., PJM Interconnection, L.L.C.

Description: § 205(d) Rate Filing: AEP submits ILDSA SA No. Paint Creek FA to be effective 2/7/2021.

Filed Date: 12/8/20.

Accession Number: 20201208-5170.

Comments Due: 5 p.m. ET 12/29/20.

Docket Numbers: ER21-608-000.

Applicants: Southwest Power Pool, Inc.

Description: § 205(d) Rate Filing: 1139R7 Southwestern Public Service Company NITSA NOA to be effective 10/1/2019.

Filed Date: 12/9/20.

Accession Number: 20201209-5036.

Comments Due: 5 p.m. ET 12/30/20.

Docket Numbers: ER21-609-000.

Applicants: Elmwood Park Power, LLC.

Description: Tariff Cancellation: Notice of Cancellation to be effective 3/12/2021.

Filed Date: 12/9/20.

Accession Number: 20201209-5037.

Comments Due: 5 p.m. ET 12/30/20.

Docket Numbers: ER21-610-000.

Applicants: PJM Interconnection, L.L.C.

Description: § 205(d) Rate Filing: Correction to First Revised ISA, SA No. 1503; Queue No. AD2-001 (amend) to be effective 8/31/2020.

Filed Date: 12/9/20.

Accession Number: 20201209-5042.

Comments Due: 5 p.m. ET 12/30/20.

Docket Numbers: ER21-611-000.

Applicants: Golden Springs Development Company LLC.

Description: Appeal for Relief from Assessed Penalty of Electric of Golden Springs Development Company LLC.

Filed Date: 12/8/20.

Accession Number: 20201208-5186.

Comments Due: 5 p.m. ET 12/29/20.

Docket Numbers: ER21-612-000.

Applicants: Southwest Power Pool, Inc.

Description: § 205(d) Rate Filing: 3749 WAPA and NPPD Interconnection Agreement to be effective 12/8/2020.

Filed Date: 12/9/20.

Accession Number: 20201209-5080.

Comments Due: 5 p.m. ET 12/30/20.

Docket Numbers: ER21-613-000.

Applicants: Niagara Mohawk Power Corporation, New York Independent System Operator, Inc.

Description: § 205(d) Rate Filing: E&P Agreement among Niagara Mohawk Power Corporation and KCE NY 6 LLC to be effective 11/24/2020.

Filed Date: 12/9/20.

Accession Number: 20201209-5096.

Comments Due: 5 p.m. ET 12/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2020.
Kimberly D. Bose,
Secretary.

[FR Doc. 2020-27527 Filed 12-14-20; 8:45 am]

BILLING CODE 6717-01-P